DEPARTMENT OF TRANSPORTATION

Pipeline and Hazardous Materials Safety Administration

[Docket No.: PHMSA-2022-0085]

Pipeline Safety: Information Collection Activities: Mitigation of Ruptures on Onshore Gas Transmission and Gathering, Hazardous Liquid, and Carbon Dioxide Pipeline Segments Using Rupture-Mitigation Valves or Alternative Equivalent Technologies and Blending of Hydrogen Gas and Natural Gas Within Gas Pipelines

AGENCY: Pipeline and Hazardous Materials Safety Administration (PHMSA), Department of Transportation (DOT).

ACTION: Notice and request for comments.

SUMMARY: In accordance with the Paperwork Reduction Act of 1995, PHMSA invites public comments on its intent to request the Office of Management and Budget's (OMB) approval of changes to existing information collections under OMB control numbers 2137-0627 (National Registry of Pipeline and LNG Operators), 2137-0635 (Pipeline Operators), 2137-0635 (Incident Reports for Natural Gas Pipeline Operators), 2137-0629 (Annual Report for Gas Distribution Operators), 2137-0522 (Annual Reports for Gas Pipeline Operators), 2137-0614 (Hazardous Liquid Pipeline Operator Annual Reports), and 2137-0596 (National Pipeline Mapping Program). The proposed information collection changes would provide data necessary to demonstrate an alternative approach to the implementation of Recommendation P-11-11 made by the National Transportation Safety Board (NTSB) and allow PHMSA to identify trends related to the blending of hydrogen gas and natural gas within gas pipelines from operator-submitted data.

DATES: Interested persons are invited to submit comments on or before May 24, 2024.

ADDRESSES: Comments may be submitted in the following ways:

E-Gov Website: https://www.regulations.gov. This site allows the public to enter comments on any Federal Register notice issued by any agency.

Fax: 1-202-493-2251.

Mail: Docket Management System; U.S. Department of Transportation, 1200 New Jersey Avenue SE, West Building, Ground Floor, Room W12-140, Washington, DC 20590-0001.

Hand Delivery: U.S. Department of Transportation Docket Management System, West Building Ground Floor, Room W12-140, 1200 New Jersey Avenue SE, Washington, DC 20590-0001, between 9:00 a.m. and 5:00 p.m., ET, Monday through Friday, except federal holidays.

Instructions: Please include the docket number, PHMSA-2022-0085, at the beginning of your comments. If you submit your comments by mail, submit two copies. If you wish to receive confirmation that PHMSA has received your comments, include a self-addressed stamped postcard with the following statement: “Comments on: PHMSA-2022-0085.” The Docket Clerk will date stamp the postcard prior to returning it to you via the U.S. mail. Internet users may submit comments at https://www.regulations.gov. Please note that, due to delays in the delivery of U.S. mail to federal offices in Washington, DC, we recommend submitting comments to the docket via the internet, fax, or professional courier to ensure their timely receipt at the DOT.

Note: Comments are posted without changes or edits to https://www.regulations.gov, including any personal information provided. There is also a privacy statement published on https://www.regulations.gov, which is also provided below.

Privacy Act Statement: In accordance with 5 U.S.C. 553(c), DOT solicits comments from the public for certain notices. DOT posts these comments, without edit, including any personal information the commenter provides, to https://www.regulations.gov, as described in the system of records notice (DOT/ALL-14 FDMS), which can be reviewed at www.dot.gov/privacy.

Docket: For access to the docket or to read background documents or comments received, go to https://www.regulations.gov and follow the online instructions for accessing the docket. Alternatively, you may review the documents in person at the physical address listed above for mail and hand delivery.

Confidential Business Information: Confidential Business Information (CBI) is commercial or financial information that is both customarily and actually treated as private by its owner. Under the Freedom of Information Act (FOIA; 5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) mark each page of the original document submission containing CBI as “Confidential;” (2) send PHMSA a second copy of the original document with the CBI deleted, along with the original document; and (3) explain why the information you are submitting is CBI. Unless you are notified otherwise, PHMSA will treat such marked submissions as confidential under FOIA, and they will not be placed in the public docket of this notice. Submissions containing CBI should be sent to Angela Hill, U.S. Department of Transportation, Pipeline and Hazardous Materials Safety Administration, 1200 New Jersey Avenue SE, PHP-30, Washington, DC 20590-0001. Any commentary PHMSA receives that is not specifically designated as CBI will be placed in the public docket for this matter.

FOR FURTHER INFORMATION CONTACT: Angela Hill by phone at 202-366-1246 or by email at Angela.Hill@dot.gov.

SUPPLEMENTARY INFORMATION:

I. Background

A. Mitigation of Ruptures on Onshore Gas Transmission and Gathering, Hazardous Liquid, and Carbon Dioxide Pipeline Segments Using Rupture-Mitigation Valves or Alternative Equivalent Technologies

On September 9, 2010, at about 6:11 p.m. PT, a 30-inch diameter segment of an intrastate natural gas transmission pipeline known as Line 132, owned and operated by the Pacific Gas and Electric Company (PG&E), ruptured in a residential area in San Bruno, California. PG&E's dispatch center first received notification of an explosion at 6:18 p.m. by an off-duty employee. Additional notifications were received in the next several minutes from other employees observing the accident fire or observing pressure drops in PG&E's supervisory control and data acquisition (SCADA) center. Shortly after 6:50 p.m., while processing available information about the ongoing event, PG&E personnel recognized the rupture was occurring on Line 132. PG&E subsequently began isolating the pipeline segment affected by the rupture by closing remotely operated valves at 7:29 p.m., and technicians manually closed two additional valves at 7:30 p.m. and 7:46 p.m., respectively, fully isolating the affected segment. It took a total of 95 minutes from the start of the rupture for PG&E to stop the flow of gas in the affected segment and isolate the rupture site, and 91 minutes from the start of the rupture for the intensity of the fire to decrease enough so that firefighters could approach the rupture site and begin containment efforts.

In its investigation report on the incident,¹ the NTSB concluded the 95 minutes that PG&E took to stop the flow of gas by isolating the rupture site was excessive. If the gas had been shut off earlier, thereby removing fuel flow, the fire would likely have been smaller and resulted in less damage. Also, buildings that would have otherwise provided protection to residents in a shorter-duration fire were compromised because of the elevated heat. In addition to exposing residents and their property to increased risk, the prolonged fire was also detrimental to emergency responders, who were put at increased risk by having to be close to the fire for a longer time and were not available to respond to other potential emergencies while they were waiting for the fire to subside. This delay,—which contributed to the seriousness and extent of property damage and increased risk to residents and emergency responders,—in combination with the failure of the SCADA center to expedite shutdown of the remote valves, contributed to the severity of the incident.

¹ NTSB, Accident Report PAR-11/01, “Natural Gas Transmission Pipeline Rupture and Fire, San Bruno, California, September 9, 2010” (Aug. 30, 2011), https://www.ntsb.gov/investigations/AccidentReports/Reports/PAR1101.pdf.

On Sunday, July 25, 2010, a segment of a 30-inch-diameter pipeline, owned and operated by Enbridge Incorporated (Enbridge), ruptured in a wetland in Marshall, Michigan, releasing an estimated 843,444 gallons of crude oil. The NTSB also investigated that accident ² and identified similar rupture identification and response inadequacies as noted in its investigation of the PG&E incident at San Bruno.

² NTSB, Accident Report PAR-12/01, “Hazardous Liquid Pipeline Rupture and Release, Marshall, Michigan, July 25, 2010” (Aug. 10, 2012), https://www.ntsb.gov/investigations/AccidentReports/Reports/PAR1201.pdf.

Following these ruptures, the Pipeline Safety, Regulatory Certainty, and Job Creation Act of 2011 ³ was enacted, containing several pipeline safety mandates related to the PG&E and Enbridge ruptures. In particular, the legislation required PHMSA to issue regulations requiring the use of automatic shut-off valves or remote-control valves, or equivalent technology, on newly constructed or entirely replaced gas transmission and hazardous liquid pipeline facilities.⁴

³ 2011 Pipeline Safety Act; Public Law 112-90.

⁴ 49 U.S.C. 60102(n). (This statutory mandate was subsequently revised, establishing a new deadline for PHMSA to issue a final rule. See 49 U.S.C. 60102 note.)

Following the PG&E incident, the NTSB recommended, in its Recommendation P-11-11, that PHMSA amend § 192.935(c) to directly require that automatic shut-off valves or remote-control valves ⁵ in high consequence areas and in class 3 and 4 locations be installed and spaced at intervals that consider the factors listed in that regulation. In response to that NTSB recommendation, and in consideration of other mandates, recommendations, and comments, PHMSA issued regulations in the final rule titled “Requirement of Valve Installation and Minimum Rupture Detection Standards” (Valve Rule).⁶

⁵ 49 CFR 192.3: Rupture-mitigation valve (RMV) means an automatic shut-off valve (ASV) or a remote-control valve (RCV) that a pipeline operator uses to minimize the volume of gas released from the pipeline and to mitigate the consequences of a rupture.

⁶ 87 FR 20940 (Apr. 8, 2022) (subsequently amended by 88 FR 50056 (Aug. 1, 2023)). In developing the Valve Rule, PHMSA considered NTSB safety recommendations following the PG&E incident; GAO recommendations on the ability of operators to respond to commodity releases in high-consequence areas (HCA); technical reports commissioned by PHMSA on valves and leak detection; comments received on related topics through advance notices of proposed rulemakings (ANPRM) and the notice of proposed rulemaking (NPRM) published in February 2020; and feedback from members of the public, environmental advocacy organizations, state pipeline safety regulators, and industry representatives during Gas Pipeline Advisory Committee and Liquid Pipeline Advisory Committee meetings. See 87 FR 20941.

PHMSA collects information from pipeline operators on annual reports, which includes information such as total pipeline mileage, types of facilities, commodities transported, miles by material, and installation dates. These annual reports are widely used by safety researchers, government agencies, industry professionals, and PHMSA personnel for, among other things, inspection planning and future rulemaking. PHMSA's annual report forms do not currently collect information that could measure the effectiveness of the Valve Rule and provide the NTSB the necessary information as part of an alternative approach to close Recommendation P-11-11.

Accordingly, PHMSA is proposing to collect data to determine the current utilization of RMVs and measure the usage of RMVs because of the requirements in the Valve Rule and industry safety initiatives. Specifically, PHMSA proposes to modify the annual report forms listed below for gas transmission, gas gathering, hazardous liquid, and carbon dioxide pipelines, and the associated instructions, to collect the number of miles of onshore gas transmission, gas gathering, hazardous liquid, and carbon dioxide pipelines that are located between RMVs or alternative equivalent technologies. This mileage would be further categorized by the pipeline outside diameter and location relative to HCAs and class locations, as applicable. PHMSA recognizes that the Valve Rule, through the subsequent amendments by 88 FR 50056, does not apply to gas gathering lines or hazardous liquid gathering lines, but is asking operators to report the miles of onshore Type A and Type C gas gathering lines and onshore hazardous liquid gathering lines (excluding regulated rural and reporting-regulated gathering lines) that would be within a shut-off segment, as defined by §§ 192.634 and 195.418, respectively, if those definitions applied. The forms PHMSA is proposing to modify include:

• Form PHMSA F 7100.2-1 Annual Report for Calendar Year 20_ Natural and Other Gas Transmission and Gathering Pipeline Systems

• Form PHMSA F 7000-1.1 Annual Report for Calendar Year 20_ Hazardous Liquid and Carbon Dioxide Pipeline Systems

PHMSA will provide the collected information to the NTSB to illustrate the current utilization of RMVs; measure the implementation of the Valve Rule; and support closure of Recommendation P-11-11. PHMSA anticipates that the collection of this pipeline mileage information would also allow the Agency to identify the proactive approach taken by industry, in advance of the Valve Rule, to install RMVs and reduce the consequences of pipeline releases; measure, over time, the effectiveness of the Valve Rule; and identify trends related to pipeline mileage within shutoff segments to inform future rulemakings.

B. Blending Hydrogen Gas Into Natural Gas Pipelines

Hydrogen gas and natural gas (and blends of the same) are, pursuant to § 192.3, subject to PHMSA's part 192 regulations governing gas pipelines. Hydrogen gas is an energy carrier that could play an important role in reducing emissions associated with difficult-to-decarbonize sectors, including peaking and load-following electricity and industrial heating. Blending hydrogen gas into natural gas pipelines has been proposed as an approach for achieving near-term emissions reductions; however, numerous challenges and uncertainties complicate this approach to natural gas decarbonization.⁷ PHMSA is aware of proposed demonstration projects aimed to address technical barriers to blending hydrogen gas into natural gas pipelines.⁸ PHMSA is also aware of certain transmission and distribution pipeline operators who have historically transported blended natural gas and hydrogen gas product streams, and other operators who are beginning to consider the practice of blending natural gas with hydrogen gas in existing gas pipelines.9 10 11 PHMSA anticipates that natural gas and hydrogen gas blending could become a widespread, long-term, and integral practice to meet energy and emissions reduction needs in the U.S. PHMSA recognizes that information gaps must be resolved to demonstrate the integrity of existing gas pipeline systems to transport blends of natural gas and hydrogen gas (even at lower concentrations of hydrogen gas within the blend). However, until further research is performed, PHMSA expects operators to take a measured and cautious approach, and to account for risks to pipeline integrity, public safety, and environmental protection in the performance of the requirements of part 192.

⁷ Topolski et al, “Hydrogen Blending into Natural Gas Pipeline Infrastructure: Review of the State of Technology,” National Renewable Energy Laboratory, (October 2022); NREL/TP5400-81704. https://www.nrel.gov/docs/fy23osti/81704.pdf.

⁸ U.S. Department of Energy, “HyBlend: Opportunities for Hydrogen Blending in Natural Gas Pipelines,” (December 2022). https://www.energy.gov/sites/default/files/2022-12/hyblend-tech-summary-120722.pdf.

⁹ Congressional Research Service, “Pipeline Transportation of Hydrogen: Regulation, Research, and Policy,” (March 2, 2021). https://crsreports.congress.gov/product/pdf/R/R46700. More than a century ago, domestic pipelines commonly shipped hydrogen (blended with methane and other gases), but the advent of natural gas production from North American reserves in the 1940s generally ended this practice as the new natural gas supplies replaced hydrogen and hydrogen blends. Today, nearly all U.S. pipeline shipment of hydrogen is in dedicated hydrogen infrastructure, although there are proposals to ship hydrogen-methane blends once again in U.S. natural gas pipelines as one aspect of a national energy strategy.

¹⁰ Southern California Gas Company, San Diego Gas & Electric Company, Pacific Gas and Electric Company, and Southwest Gas Corporation, Joint Application Regarding Hydrogen-Related Additions or Revisions to the Standard Renewable Gas Interconnection Tariff, Before the Public Utilities Commission of the State of California, November 20, 2020, https://www.socalgas.com/sites/default/files/2020-11/Utilities_Joint_Application_Prelim_H2_Injection_Standard_11-20-20.pdf.

¹¹ Clean Energy Group, “Hydrogen Projects in the US,” (Last accessed February 15, 2024). https://www.cleanegroup.org/initiatives/hydrogen/projects-in-the-us/.

PHMSA collects construction, operation, and incident data for pipelines transporting hydrogen gas and natural gas separately in its operator identification (OPID) assignment request, national registry notification, and annual and incident reports.¹² These reports do not currently include a commodity selection for natural gas and hydrogen gas blends.

¹² Operator Identification Number. (See § 191.22)

PHMSA proposes to modify the forms listed below, and the associated instructions, to allow operators of gas pipelines transporting blended natural gas and hydrogen gas to select one of three new commodity values corresponding to various percentages of hydrogen gas by volume. PHMSA proposes adding three commodity values with the following percentage ranges of hydrogen: (1) greater than zero percent but less than or equal to five percent; (2) greater than five percent but less than 20 percent; and (3) greater than or equal to 20 percent.¹³ The forms that PHMSA is proposing to modify include:

¹³ Zhongquan Zhou and Daniel Ersoy, “Review Studies of Hydrogen Use in Natural Gas Distribution Systems,” Gas Technology Institute, prepared for National Renewable Energy Laboratory, (December 16, 2010), p. 15. (“If less than 20% hydrogen is introduced into distribution system, the overall risk is not significant.”)

• Form PHMSA F 1000.1 OPID Assignment Request

• Form PHMSA F 1000.2 National Registry Notification

• Form PHMSA F 7100.1-1 Annual Report for Calendar Year 20_ Gas Distribution System

• Form PHMSA F 7100.2-1 Annual Report for Calendar Year 20_ Natural and Other Gas Transmission and Gathering Pipeline Systems

• Form PHMSA F 7100.1 Incident Report—Gas Distribution System

• Form PHMSA F 7100.2 Incident Report—Gas Transmission, Gas Gathering, and Underground Natural Gas Storage Facilities

PHMSA anticipates that the collection of these additional commodities and the resulting separation of associated construction, operation, and incident data will allow the Agency to identify trends relating to the transportation of natural gas and hydrogen gas blends in gas pipelines to inform future rulemakings. As discussed in Section II below, PHMSA expects that operators who decide to transport blended natural gas and hydrogen gas in only part of their system would see incremental cost increases in the form of additional annual reporting requirements. PHMSA expects no additional annual reporting burden for operators who decide to transport blended natural gas and hydrogen gas in their entire system. PHMSA also expects no additional burden for national registry notifications and incident reports.

As part of this information collection, PHMSA would amend the National Pipeline Mapping System (NPMS) to include gas transmission commodity selections corresponding to natural gas and hydrogen gas blends with no additional burden.

II. Summary of Impacted Collection

Code of Federal Regulations Title 5, Section 1320.8(d), requires PHMSA to provide interested members of the public and affected entities an opportunity to comment on information collection and recordkeeping requests. This notice identifies recurring annual information collections that PHMSA will submit to OMB for approval.

The following information is provided for these information collections: (1) Title of the information collection; (2) OMB control number; (3) Current expiration date; (4) Type of request; (5) Abstract of the information collection activity; (6) Description of affected public; (7) Estimate of total annual reporting and recordkeeping burden; and (8) Frequency of collection.

PHMSA requests comments on the following information:

1. Title: National Registry of Pipeline and LNG Operators.

OMB Control Number: 2137-0627.

Current Expiration Date: 3/31/2025.

Type of Request: Revision of information collection.

Abstract: The National Registry of Pipeline and LNG Operators serves as the storehouse for the reporting requirements for an operator regulated or subject to reporting requirements under 49 CFR parts 192, 193, or 195. This mandatory information collection requires jurisdictional pipeline operators to submit required data to the National Registry of Pipeline and LNG Operators and notify PHMSA when they experience significant asset changes, including new construction, that affect PHMSA's ability to accurately monitor and assess pipeline safety performance. Certain types of changes to, or within, an operator's facilities or pipeline network represent potential safety-altering activities for which PHMSA may need to inspect, investigate, or otherwise oversee to ensure that any public safety concerns are adequately and proactively addressed. The forms for assigning and maintaining information are the OPID Assignment Request Form (PHMSA F 1000.1) and National Registry Notification Form (PHMSA F 1000.2).¹⁴ The purpose of this information collection is to maintain an accurate assessment of the nation's pipeline infrastructure, and to keep abreast of conditions that could potentially compromise the safety and economic viability of the U.S. pipeline system. PHMSA proposes to revise forms PHMSA F 1000.1 and PHMSA F 1000.2 to allow operators to select, as a commodity, a natural gas and hydrogen gas blend. PHMSA does not expect the burden on operators to increase because of this change.

¹⁴ Operator Identification Number. (See § 191.22.)

Affected Public: Pipeline Operators.

Annual Reporting and Recordkeeping Burden:

Total Annual Responses: 744.

Total Annual Burden Hours: 744.

Frequency of Collection: On Occasion.

2. Title: Incident Reports for Natural Gas Pipeline Operators.

OMB Control Number: 2137-0635.

Current Expiration Date: 10/31/2024.

Type of Request: Revision of an information collection.

Abstract: Operators of natural gas pipelines and liquefied natural gas (LNG) facilities are required to report incidents, on occasion, to PHMSA per the requirements in 49 CFR part 191. This mandatory information collection covers the collection of incident report data from natural and other gas pipeline operators. This information is an essential part of PHMSA's overall effort to minimize natural gas transmission, gathering, and distribution pipeline failures. The reports contained within this information collection support the DOT's strategic goal of safety. PHMSA proposes to revise forms PHMSA F 7100.1 and PHMSA F 7100.2 to collect information on the percentage of hydrogen gas by volume released during a reportable incident from a gas pipeline transporting blended natural gas and hydrogen gas. PHMSA does not expect the burden on operators for incident reporting to increase because of this change.

Affected Public: Natural and Other Gas Pipeline Operators.

Annual Reporting and Recordkeeping Burden:

Total Annual Responses: 999.

Total Annual Burden Hours: 4,456.

Frequency of Collection: On Occasion.

3. Title: Annual Report for Gas Distribution Operators.

OMB Control Number: 2137-0629.

Current Expiration Date: 5/31/2024.

Type of Request: Revision of an information collection.

Abstract: This mandatory information collection covers the collection of annual report data from gas distribution pipeline operators. Operators of gas distribution pipeline systems are required to submit annual report data to the Office of Pipeline Safety in accordance with the regulations stipulated in 49 CFR part 191 by way of form PHMSA F 7100.1-1. The form is to be submitted once for each calendar year. The annual report form collects data about the pipe material, size, and age. The form also collects data on leaks from these systems as well as excavation damages. PHMSA uses the information to track the extent of gas distribution systems and normalize incident and leak rates. PHMSA proposes to revise form PHMSA F 7100.1-1 to collect information on the percentage of hydrogen gas by volume transported in a blend of natural gas and hydrogen gas. PHMSA currently estimates that gas distribution operators spend 20 hours annually compiling and submitting annual report data. PHMSA considers hydrogen blended gas a separate commodity and, as a result, may require gas distribution operators to submit a separate annual report should they decide to distribute blended natural gas and hydrogen gas only in a portion of their system. This would result in additional reporting burdens for those operators. PHMSA is not aware of any comprehensive data currently available that would allow the Agency to quantify the number of gas distribution pipeline operators that might distribute blended natural gas and hydrogen gas. PHMSA conservatively estimates that 13 gas distribution pipeline operators would be required to submit an additional annual report for each calendar year affected by this notice. Accordingly, PHMSA expects the burden on gas distribution pipeline operators to submit annual report data to increase by 13 responses and 260 hours because of this change.

Affected Public: Gas Distribution Pipeline Operators.

Annual Reporting and Recordkeeping Burden:

Total Annual Responses: 1,459.

Total Annual Burden Hours: 29,180.

Frequency of Collection: Annual.

4. Title: Annual Reports for Gas Pipeline Operators.

OMB Control Number: 2137-0522.

Current Expiration Date: 3/31/2026.

Type of Request: Revision of an information collection.

Abstract: This mandatory information collection covers the collection of annual and incident report data from gas pipeline operators. PHMSA currently estimates that 1,810 natural and other gas pipeline operators spend an average of 54 hours submitting annual report data to PHMSA each year. PHMSA is proposing to revise form PHMSA F 7100.2-1 to collect data on how many miles of pipeline segments have RMVs or alternative equivalent technology to mitigate the consequences of a potential rupture. PHMSA believes that operators currently have this information available within their integrity management plans but acknowledges it may take operators some time to compile the data needed to comply with this information collection request. As such, PHMSA proposes to add one hour to the approved burden for form PHMSA F 7100.2-1 to account for the proposed changes related to rupture mitigation valves. This will bring the burden for completing the annual report up to 55 hours per operator.

PHMSA also proposes to revise form PHMSA F 7100.2-1 to collect information on the percentage of hydrogen gas by volume transported in a blend of natural gas and hydrogen gas. PHMSA expects that the burden on operators for reporting blended natural gas and hydrogen gas would result in incremental cost increases for operators who decide to transport blended natural gas and hydrogen gas in the form of an additional annual report for the operators engaging in such transportation. PHMSA is not aware of comprehensive data that is currently available and would allow the Agency to quantify the number of pipeline operators who might transport blended natural gas and hydrogen gas. PHMSA conservatively estimates that seven gas pipeline operators would be required to submit an additional annual report for each calendar year affected by this notice. Accordingly, PHMSA expects the burden on operators to submit annual report data to increase by seven responses and 385 hours because of this change.

Affected Public: Natural and Other Gas Pipeline Operators.

Annual Reporting and Recordkeeping Burden:

Total Annual Responses: 2,452.

Total Annual Burden Hours: 106,791.

Frequency of Collection: Annual.

5. Title: Hazardous Liquid Pipeline Operator Annual Reports.

OMB Control Number: 2137-0614.

Current Expiration Date: 03/31/2026.

Type of Request: Revision of an information collection.

Abstract: Owners and operators of hazardous liquid pipelines are required to provide PHMSA with safety-related documentation relative to the annual operation of their pipeline. PHMSA uses the provided information to compile a national pipeline inventory, identify safety problems, and target inspections. PHMSA currently estimates that 475 operators of hazardous liquid and/or carbon dioxide pipeline systems spend an average of 26 hours annually submitting annual report data to PHMSA via form PHMSA F7000-1.1, the Annual Report for Hazardous Liquid and Carbon Dioxide Pipeline Systems. PHMSA is proposing to revise form PHMSA F7000-1.1. to collect data on how many miles of pipeline segments have RMVs or alternative equivalent technology to mitigate the consequences of a potential rupture. PHMSA believes that operators currently have this information available within their integrity management plans but acknowledges it may take operators some time to compile the data needed to comply with this information collection request.

As such, PHMSA proposes to add one hour to the approved burden for form PHMSA F7000-1.1 to account for the proposed changes. This will bring the total burden for completing the annual report to 27 hours per operator for an overall burden of 12,825 hours across all hazardous liquid and carbon dioxide pipeline operators.

Affected Public: Owners and operators of hazardous liquid and carbon dioxide pipelines.

Annual Reporting and Recordkeeping Burden:

Total Annual Responses: 950.

Total Annual Burden Hours: 12,825.

Frequency of Collection: Annual.

6. Title: National Pipeline Mapping Program.

OMB Control Number: 2137-0596.

Current Expiration Date: 03/31/2026.

Type of Request: Revision of an information collection.

Abstract: The Pipeline Safety Improvement Act of 2002 (Pub. L. 107-355), 49 U.S.C. 60132, “National Pipeline Mapping System,” requires operators to submit geospatial data appropriate for use in the National Pipeline Mapping System or data in a format that can be readily converted to geospatial data; the name and address of the person with primary operational control (to be known as its operator); and a means for a member of the public to contact the operator for additional information about the pipeline facilities it operates. PHMSA proposes to amend the NPMS to include gas transmission commodity selections for natural gas and hydrogen gas blends. PHMSA estimates that no additional burden will be incurred by operators as a result of this change.

Affected Public: Owners and operators of gas transmission pipelines and hazardous liquid and carbon dioxide pipelines.

Annual Reporting and Recordkeeping Burden:

Total Annual Responses: 1,346.

Total Annual Burden Hours: 162,208.

Frequency of Collection: Annual.

Comments are invited on:

(a) The need for this information collection for the proper performance of the functions of the Agency, including whether the information will have practical utility.

(b) The accuracy of the Agency's estimate of the burden of the proposed collection of information, including the validity of the methodology and assumptions used.

(c) Ways to enhance the quality, utility, and clarity of the information to be collected.

(d) Ways to minimize the burden of the collection of information on those who are to respond, including the use of appropriate automated, electronic, mechanical, or other technological collection techniques.

(e) Additional information that would be appropriate to collect to inform the reduction of risk to people, property, and the environment due to excavation damages.

Authority: The Paperwork Reduction Act of 1995; 44 U.S.C. Chapter 35, as amended; and 49 CFR 1.48.

Issued in Washington, DC, on March 19, 2024, under authority delegated in 49 CFR 1.97.
Alan K. Mayberry,
Associate Administrator for Pipeline Safety.

[FR Doc. 2024-06155 Filed 3-22-24; 8:45 am]

BILLING CODE 4910-60-P